ENVIRONMENTAL PROTECTION AGENCY

[FRL-9652-7]

Notice of Tentative Approval and Opportunity for Public Comment and Public Hearing for Public Water System Supervision Program Revision for Virginia

AGENCY: Environmental Protection Agency (EPA).

ACTION: Notice of Approval and Solicitation of Requests for Public Hearing and Comments.

SUMMARY: Notice is hereby given in accordance with the provision of section 1413 of the Safe Drinking Water Act, as amended, and the requirements governing the National Primary Drinking Water Regulations Implementation, 40 CFR Part 142, that the Commonwealth of Virginia is revising its approved Public Water System Supervision Program. The Commonwealth has adopted the drinking water regulation for the Ground Water Rule (GWR) which will provide for better public health protection by reducing public water system consumers' risk of microbial illness from drinking water. EPA has determined that the Commonwealth rule meets all minimum federal requirements, and that the Commonwealth revision is no less stringent than the corresponding federal regulation. Therefore, EPA is taking action to tentatively approve these program revisions. All interested parties are invited to submit written comments on this determination and may request a public hearing.

DATES: Comments or a request for a public hearing must be submitted by April 27, 2012. This determination shall become final and effective on April 27, 2012, if no timely and appropriate request for a hearing is received and the Regional Administrator does not elect to hold a hearing on his own motion, and if no comments are received which cause EPA to modify its tentative approval.

ADDRESSES: Comments or a request for a public hearing must be submitted to the U.S. Environmental Protection Agency, Region III, 1650 Arch Street, Philadelphia, Pennsylvania 19103-2029. Comments may also be submitted electronically to schmitt.ellen@epa.gov. All documents relating to this determination are available for inspection between the hours of 8 a.m. and 4:30 p.m., Monday through Friday, at the following offices:

• Drinking Water Branch, 3WP21, Water Protection Division, U.S. Environmental Protection Agency, Region III, 1650 Arch Street, Philadelphia, Pennsylvania 19103-2029.

• Office of Drinking Water, Virginia Department of Health, 109 Governor Street, Madison Building, 6th Floor, Room 632, Richmond, VA 23219.

FOR ADDITIONAL INFORMATION CONTACT: Ellen Schmitt at the Philadelphia address given above, telephone (215) 814-5787, fax (215) 814-2302 or email schmitt.ellen@epa.gov.

SUMMARY INFORMATION: All interested parties are invited to submit written comments on this determination and may request a hearing. All comments will be considered and, if necessary, EPA will issue a response. Frivolous or insubstantial requests for a hearing may be denied by the Regional Administrator. If a substantial request for a public hearing is made by April 27, 2012, a public hearing will be held. A request for public hearing shall include the following: (1) The name, address, and telephone number of the individual, organization, or other entity requesting a hearing; (2) a brief statement of the requesting person's interest in the Regional Administrator's determination and of information that the requesting person intends to submit at such hearing; and (3) the signature of the individual making the request; or, if the request is made on behalf of an organization or other entity, the signature of a responsible official of the organization or other entity.

Dated: March 19, 2012.
William Early,
Deputy Regional Administrator, EPA, Region III.

[FR Doc. 2012-7483 Filed 3-27-12; 8:45 am]

BILLING CODE 6560-50-P